DEPARTMENT OF THE INTERIOR

Bureau of Indian Affairs

25 CFR Parts 31 and 36

RIN 1076-AE54

Conforming Amendments to Implement the No Child Left Behind Act of 2001

AGENCY: Bureau of Indian Affairs, Interior.

ACTION: Final rule.

SUMMARY: This final rule deletes provisions of parts 31 and 36 that will become obsolete on May 31, 2005, the effective date of the final rule implementing the No Child Left Behind Act of 2001.

DATES: Effective Date: May 31, 2005.

FOR FURTHER INFORMATION CONTACT: Catherine Freels, Designated Federal Official, P.O. Box 1430, Albuquerque, NM 87103-1430; phone: 505-248-7240; e-mail: cfreels@bia.edu.

SUPPLEMENTARY INFORMATION: Today the Bureau of Indian Affairs is publishing elsewhere in the Federal Register the final rule implementing the No Child Left Behind Act of 2001. The Bureau developed this rule using a negotiated rulemaking process that considered the views of all affected tribes and types of schools. This final rule implementing the No Child Left Behind Act affects several provisions in other areas of 25 CFR. This rule removes these conflicting provisions in order to remove potential conflicts from title 25.

Compliance Information

1. Regulatory Planning and Review (E.O. 12866). This document is not a significant rule and the Office of Management and Budget has not reviewed this rule under Executive Order 12866.

(1) This rule will not have an effect of $100 million or more on the economy. It will not adversely affect in a material way the economy, productivity, competition, jobs, the environment, public health or safety, or State, local, or tribal governments or communities.

(2) This rule will not create a serious inconsistency or otherwise interfere with an action taken or planned by another agency.

(3) This rule does not alter the budgetary effects of entitlements, grants, user fees, or loan programs or the rights or obligations of their recipients.

(4) This rule does not raise novel legal or policy issues. It makes only changes necessary to ensure that these sections of 25 CFR conform to the changes made by the new rule being published in final today.

2. Regulatory Flexibility Act. The Department of the Interior certifies that this document will not have a significant economic effect on a substantial number of small entities under the Regulatory Flexibility Act (5 U.S.C. 601 et seq.).

3. Small Business Regulatory Enforcement Fairness Act (SBREFA). This rule is not a major rule under 5 U.S.C. 804(2), the Small Business Regulatory Enforcement Fairness Act. This rule:

a. Does not have an annual effect on the economy of $100 million or more.

b. Will not cause a major increase in costs or prices for consumers, individual industries, Federal, State, or local government agencies, or geographic regions.

c. Does not have significant adverse effects on competition, employment, investment, productivity, innovation, or the ability of U.S.-based enterprises to compete with foreign-based enterprises.

4. Unfunded Mandates Reform Act. This rule does not impose an unfunded mandate on State, local, or tribal governments or the private sector of more than $100 million per year. The rule does not have a significant or unique effect on State, local, or tribal governments or the private sector. The rule makes only changes necessary to ensure that these sections of 25 CFR conform to the changes made by the new rule being published in final today.

5. Takings (E.O. 12630). In accordance with Executive Order 12630, the rule does not have significant takings implications. No rights, property or compensation has been, or will be taken. A takings implication assessment is not required.

6. Federalism (E.O. 13132). In accordance with Executive Order 13132, this rule does not have federalism implications that warrant the preparation of a Federalism Assessment.

7. Civil Justice Reform (E.O. 12988). In accordance with Executive Order 12988, the Office of the Solicitor has determined that this rule does not unduly burden the judicial system and meets the requirements of sections 3(a) and 3(b)(2) of the Order.

8. Consultation with Indian tribes (E.O. 13175). In accordance with Executive Order 13175, we have evaluated this rule and determined that it has no potential negative effects on federally recognized Indian tribes. In drafting the No Child Left Behind rule published today, we consulted extensively with tribes; tribal members of the negotiated rulemaking committee participated in the writing of the rule. These conforming amendments make only changes necessary to ensure that the remainder of 25 CFR is consistent with the provisions of the No Child Left Behind rule.

9. Paperwork Reduction Act. This regulation does not require an information collection from 10 or more parties and a submission under the Paperwork Reduction Act is not required. An OMB form 83-I is not required.

10. National Environmental Policy Act. This rule does not constitute a major Federal action significantly affecting the quality of the human environment.

11. Justification for Issuing a Direct Final Rule.

The Department has determined that the public notice and comment provisions of the Administrative Procedure Act, 5 U.S.C. 553(b), do not apply to this rule because of the good cause exception under 5 U.S.C. 553(b)(3)(B). This exception allows the agency to suspend the notice and public procedure requirements when the agency finds for good cause that those requirements are impractical, unnecessary, and contrary to the public interest. This rule deletes provisions made obsolete by rules published today by the Department; it makes no other substantive changes. Failure to immediately revoke these rules would lead to confusion and cause errors in vital educational programs. For these reasons, public comments is unnecessary and good cause exists for publishing this change as a direct final rule.

List of Subjects in 25 CFR Parts 31 and 36

Elementary and secondary education programs, Government programs—education, Indians—education, Schools.

Dated: April 20, 2005.
Michael D. Olsen,
Acting Principal Deputy Assistant, Secretary—Indian Affairs.

For the reasons given in the preamble, parts 31 and 36 of title 25 of the Code of Federal Regulations are amended as set forth below.

PART 31—FEDERAL SCHOOLS FOR INDIANS

1. The authority for part 31 continues to read as follows:

Authority: Sec. 1, 41 Stat. 410; 25 U.S.C. 282, unless otherwise noted.

2. Section 31.1 is removed.

3. Section 31.5 is removed.

PART 36—MINIMUM ACADEMIC STANDARDS FOR THE BASIC EDUCATION OF INDIAN CHILDREN AND NATIONAL CRITERIA FOR DORMITORY SITUATIONS

4. The authority for part 36 continues to read as follows:

Authority: Section 502, 25 U.S.C. 2001; section 5101, 25 U.S.C. 2001; Section 1101, 25 U.S.C. 2002; 5 U.S.C. 301; 25 U.S.C. 2 and 9; 25 S.C. 2901, Title I of P.L. 101-477.

5. In § 36.1, paragraph (b) is removed and paragraph (c) is redesignated as paragraph (b).

6. In § 36.2, paragraphs (a), (b), (d), and (e) are removed and the designation “(c)” is removed from the beginning of paragraph (c).

7. In § 36.11, paragraph (c) is removed and paragraph (d) is redesignated as paragraph (c).

8. In § 36.20, paragraphs (a) and (b) are removed and paragraphs (c) through (e) are redesignated as paragraphs (a) through (c).

9. Subpart G, consisting of §§ 36.60 and 36.61, is removed.

10. Subpart H is redesignated as subpart G.

[FR Doc. 05-8257 Filed 4-27-05; 8:45 am]

BILLING CODE 4310-02-P